NATIONAL ARCHIVES AND RECORDS ADMINISTRATION

[NARA-2015-009]

Advisory Committee on the Records of Congress

AGENCY: National Archives and Records Administration (NARA).

ACTION: Notice of Advisory Committee Meeting.

SUMMARY: In accordance with the Federal Advisory Committee Act (5 U.S.C. app 2), the National Archives and Records Administration announces the following meeting.

DATES: The meeting will be held on December 8, 2014, from 10:00 a.m. to 11:30 a.m., EDT.

ADDRESSES: Capitol Visitor Center, Senate Visitor Center, Room 212-10, Washington, DC 20510

FOR FURTHER INFORMATION CONTACT: Sharon Fitzpatrick, sharon.fitzpatrick@nara.gov, Center for Legislative Archives, (202) 357-5350.

SUPPLEMENTARY INFORMATION:

Agenda

(1) Chair's Opening Remarks—Clerk of the U.S. House of Representatives

(2) Recognition of Co-chair—Secretary of the U.S. Senate

(3) Recognition of the Archivist of the United States

(4) Approval of the minutes of the last meeting

(5) Senate Archivist's report—Karen Paul

(6) House Archivist's report—Robin Reeder

(7) Center Update—Richard Hunt

(8) Other current issues and new business

The meeting is open to the public.

Dated: October 30, 2014.
Patrice Little Murray,
Committee Management Officer.

[FR Doc. 2014-26312 Filed 11-4-14; 8:45 am]

BILLING CODE 7515-01-P